DEPARTMENT OF STATE

[Public Notice 5871]

United States-Egypt Science and Technology Joint Board; Public Announcement of a Science and Technology Program for Competitive Grants To Support Junior Scientist Development Visits by U.S. and Egyptian Scientists

AGENCY: Department of State.

ACTION: Notice.

EFFECTIVE DATE: July 2, 2007.

FOR FURTHER INFORMATION, CONTACT: Barbara Jones, Program Administrator, U.S.-Egypt Science and Technology Grants Program, USAID/Cairo, Unit 64900, Box 5, APO AE 09839-4900; phone: 011-(20-2) 2522-6887; fax: 011 (20-2) 2522-7041; E-mail: bljones@usaid.gov.

The 2007 Program guidelines for Junior Scientist Development visits will be available starting July 2, 2007 on the Joint Board Web site: http://egypt.usembassy.gov/usegypt.htm.

SUPPLEMENTARY INFORMATION:

Authority: This program is established under 22 U.S.C. 2656d and the Agreement for Scientific and Technological Cooperation between the Government of the United States of America and the Government of the Arab Republic of Egypt.

A solicitation for this program will begin July 2, 2007. This program will provide modest grants for successfully competitive proposals for development visits by U.S. Junior Scientists to Egypt and Junior Egyptian Scientists to the United States. Applicants must be scientists who have received their PhD within the past ten years. U.S. applicants only may have a Master's degree or be currently enrolled in a PhD program. Applications considered for funding must be postmarked by October 29, 2007. All proposals which fully meet the submission requirements will be considered. More information and copies of the Program Announcement and Application may be obtained upon request.

FOR FURTHER INFORMATION CONTACT: Please contact Robert S. Senseney, Senior Advisor for Science Partnerships, Office of Science and Technology Cooperation, Bureau of Oceans, Environment and Science, U.S. Department of State and Chair, U.S.-Egypt S&T Joint Board at (202) 663-3246 or SenseneyRS@state.gov.

Dated: July 24, 2007.
Shirley Hart,
Deputy Director, Office of Science and Technology Cooperation, Bureau of Oceans, Environment and Science, Department of State.

[FR Doc. E7-14806 Filed 7-30-07; 8:45 am]

BILLING CODE 4710-09-P